LEGAL SERVICES CORPORATION

Request for Comments—LSC Budget Request for FY 2007

AGENCY: Legal Services Corporation, Legal.

ACTION: Request for Comments—LSC Budget Request for FY 2007.

SUMMARY: The Legal Services Corporation is beginning the process of developing its FY 2007 budget request to Congress and is soliciting suggestions as to what the request should be.

DATES: Written comments must be received on or before September 9, 2005.

ADDRESSES: Written comments may be submitted by mail, fax or e-mail to Charles Jeffress at the addresses listed below.

FOR FURTHER INFORMATION CONTACT: Charles Jeffress, Chief Administrative Officer, Legal Services Corporation, 3333 K St., NW., Washington, DC 20007; 202-295-1630 (phone); 202-337-6386 (fax); cjeffress@lsc.gov.

SUPPLEMENTARY INFORMATION: The Legal Services Corporation's (LSC) mission is to promote equal access to justice in our Nation and to provide for high-quality civil legal assistance to low income persons. LSC submits an annual budget request directly to Congress and receives an annual direct appropriation to carry out its mission. For the current fiscal year (FY 2005), LSC received an appropriation of $330,803,705 of which $312,375,183 was for basic field programs; $2,538,633 was for the Office of Inspector General; $12,826,362 was for management and administration; $1,255,010 was for technology initiative grants; and $1,808,517 was for grants to offset losses due to census adjustments. Pub. L. 108-447, 118 Stat. 2809. (The FY 2006 budget request has already been submitted to Congress and LSC is awaiting Congressional action.)

As part of its annual budget and appropriation process, LSC notifies the Office of Management and Budget (OMB) as to what the LSC budget request to Congress will be for the next fiscal year. Accordingly, LSC is currently in the process of formulating its FY 2007 budget request.

LSC invites public comment on what its FY 2007 budget request should be. Interested parties may submit comments to LSC by September 9, 2005. More information about LSC can be found at LSC's Web site: http://www.lsc.gov.

Victor M. Fortuno,
Vice President and General Counsel.

[FR Doc. 05-16460 Filed 8-18-05; 8:45 am]

BILLING CODE 7050-01-P